COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products and a service previously furnished by such agencies.

DATES: Comments must be received on or before: April 26, 2020.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN—Product Name:

6515-01-NIB-2636—Exam Light, Tactical, For CLS 6545-01-677-4906 Only

Mandatory Source of Supply: Lighthouse Works, Orlando, FL

Contracting Activity: DEFENSE LOGISTICS AGENCY, DLA TROOP SUPPORT

NSN—Product Name:

MR 13116—Pan, Fry, Non-stick, Silicone Handle, 11 Inches

Mandatory Source of Supply: Winston-Salem Industries for the Blind, Inc., Winston-Salem, NC

Contracting Activity: Military Resale-Defense Commissary Agency

Service

Service Type: Grounds Maintenance

Mandatory for: U.S. Army Engineer District San Francisco, Bay Model Visitor Center, Sausalito, CA

Mandatory Source of Supply: North Bay Rehabilitation Services, Inc., Rohnert Park, CA

Contracting Activity: DEPT OF THE ARMY, W075 ENDIST SAN FRAN

Deletions

The following products and service are proposed for deletion from the Procurement List:

Products

NSN—Product Name:

7510-01-317-4219—Dispenser, Clip System, Paper, Desktop, Medium

Mandatory Source of Supply: San Antonio Lighthouse for the Blind, San Antonio, TX

Contracting Activity: GSA/FAS ADMIN SVCS ACQUISITION BR(2, NEW YORK, NY

NSNs—Product Names:

360-01-J19-2026—Dining Packet

7360-01-J19-2030—Dining Packet

7360-01-J19-2062—Dining Packet

Mandatory Source of Supply: LC Industries, Inc., Durham, NC

Contracting Activity: DLA TROOP SUPPORT, PHILADELPHIA, PA

NSNs—Product Names:

8415-01-315-9765—Ruff, Cold Weather Parka, White Synthetic Fur and Woodland Camouflage, X-Small

8415-01-315-9766—Ruff, Cold Weather Parka, White Synthetic Fur and Woodland Camouflage, Small

8415-01-315-9767—Ruff, Cold Weather Parka, White Synthetic Fur and Woodland Camouflage, Medium

8415-01-315-9768—Ruff, Cold Weather Parka, White Synthetic Fur and Woodland Camouflage, Large

8415-01-315-9769—Ruff, Cold Weather Parka, White Synthetic Fur and Woodland Camouflage, X-Large

Mandatory Source of Supply: RLCB, Inc., Raleigh, NC

Contracting Activity: DLA TROOP SUPPORT, PHILADELPHIA, PA

NSNs—Product Names:

MR 10647—Saver, Herb, Includes Shipper 20647

Mandatory Source of Supply: Winston-Salem Industries for the Blind, Inc., Winston-Salem, NC

MR 11088—Blanket, Pet, Large

MR 11302—Cooler, Styrofoam, Handled, 22 Qt.

Mandatory Source of Supply: Winston-Salem Industries for the Blind, Inc., Winston-Salem, NC

Contracting Activity: Military Resale-Defense Commissary Agency

NSN—Product Name:

8010-00-848-9272—Enamel, Aerosol, Ammunition and Metals, Flat Olive Drab

Mandatory Source of Supply: The Lighthouse for the Blind, St. Louis, MO

Contracting Activity: FAS HEARTLAND REGIONAL ADMINISTRATO, KANSAS CITY, MO

NSN—Product Name:

6230-01-641-0756—Flashlight, Tactical, Lithium-Ion Rechargeable, Multi-color LEDs

Mandatory Source of Supply: Central Association for the Blind & Visually Impaired, Utica, NY

Contracting Activity: DLA TROOP SUPPORT, PHILADELPHIA, PA

Service

Service Type: Maintenance Service Re-lamping

Mandatory for: Department of Interior—South: Office of Surface Mining, Washington, DC

Mandatory Source of Supply: ServiceSource, Inc., Oakton, VA

Contracting Activity: OFFICE OF POLICY, MANAGEMENT, AND BUDGET, NBC ACQUISITION SERVICES DIVISION

Michael R. Jurkowski,
Deputy Director, Business & PL Operations.

[FR Doc. 2020-06453 Filed 3-26-20; 8:45 am]

BILLING CODE 6353-01-P